INTERNATIONAL TRADE COMMISSION

[Investigation No. 337-TA-737]

In the Matter of Certain Liquid Crystal Display Devices and Products Interoperable With the Same; Notice of Commission Determination Not To Review an Initial Determination Granting a Joint Motion To Terminate the Investigation on the Basis of a Settlement Agreement

AGENCY: U.S. International Trade Commission.

ACTION: Notice.

SUMMARY: Notice is hereby given that the U.S. International Trade Commission has determined not to review an initial determination (“ID”) (Order No. 6) granting a joint motion to terminate the investigation on the basis of a settlement agreement.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on September 27, 2010, based upon a complaint filed on behalf of Chimei Innolux Corp. of Miaoli County, Taiwan; Chi Mei Optoelectronics U.S.A., Inc., of San Jose, California; and Innolux Corp. of Austin, Texas, on August 23, 2010, and supplemented on September 2 and 10, 2010. The complaint alleged violations of section 337 of the Tariff Act of 1930 (19 U.S.C. 1337) in the importation into the United States, the sale for importation, and the sale within the United States after importation of certain liquid crystal display devices and products interoperable with the same by reason of infringement of certain claims of one or more of claims 1, 5, 12, 17, 18, 20, 21, and 26 of U.S. Patent No. 6,134,092; claims 1-4, 8, 11-14, and 19 of U.S. Patent No. 6,671,019; and claims 1, 5-7, 9, 10, 16, 19-21, 23, and 25 of U.S. Patent No. 5,732,241. The notice of investigation named as respondents Sony Corporation of Tokyo, Japan; Sony Corporation of America of New York, New York; Sony Electronics Corporation of San Diego, California; and Sony Computer Entertainment America, LLC of Foster City, California.

On December 16, 2010, complainants and respondents filed a joint motion to terminate the investigation based on a settlement agreement. On December 22, 2010, the Commission investigative attorney (“IA”) filed a response in support of the motion. The IA stated that terminating the investigation would not be contrary to the public interest. On January 3, 2011, the ALJ issued Order No. 6, granting the motion. No petitions for review were filed.

The Commission has determined not to review the subject ID.

This action is taken under the authority of section 337 of the Tariff Act of 1930, as amended (19 U.S.C. 1337), and of section 210.42(h) of the Commission's Rules of Practice and Procedure (19 CFR 210.42(h)).

By order of the Commission.
Issued: January 31, 2011.
William R. Bishop,
Hearings and Meetings Coordinator.

[FR Doc. 2011-2454 Filed 2-3-11; 8:45 am]

BILLING CODE 7020-02-P